DEPARTMENT OF ENERGY

Federal Energy Regulatory Commission

Combined Notice of Filings

Take notice that the Commission has received the following Natural Gas Pipeline Rate and Refund Report filings:

Docket Numbers: RP01-382-030.

Applicants: Northern Natural Gas Company.

Description: Northern Natural Gas Company submits Carlton Reimbursement Report under RP01-382.

Filed Date: 6/1/20.

Accession Number: 20200601-5171.

Comments Due: 5 p.m. ET 6/15/20.

Docket Numbers: RP20-939-000.

Applicants: Rover Pipeline LLC.

Description: § 4(d) Rate Filing: Summary of Negotiated Rate Capacity Release Agreements on 6-2-20 to be effective 6/1/2020.

Filed Date: 6/2/20.

Accession Number: 20200602-5016.

Comments Due: 5 p.m. ET 6/15/20.

Docket Numbers: RP20-940-000.

Applicants: National Fuel Resources, Inc., Marathon Power LLC.

Description: Joint Petition for Temporary Waivers of Capacity Release Regulations, et al. of National Fuel Resources, Inc., et al. under RP20-940.

Filed Date: 6/2/20.

Accession Number: 20200602-5156.

Comments Due: 5 p.m. ET 6/9/20.

Docket Numbers: RP20-941-000.

Applicants: Elba Express Company, L.L.C.

Description: § 4(d) Rate Filing: Change to Fuel Tracker Effective Date to be effective 8/1/2020.

Filed Date: 6/3/20.

Accession Number: 20200603-5004.

Comments Due: 5 p.m. ET 6/15/20.

Docket Numbers: RP20-942-000.

Applicants: NiSource Inc., Bay State Gas Company, Eversource Energy, Eversource Gas Company of Massachusetts.

Description: Joint Petition for Temporary Waivers of Capacity Release Regulations, et al. of NiSource Inc., et al. under RP20-942.

Filed Date: 6/2/20.

Accession Number: 20200602-5172.

Comments Due: 5 p.m. ET 6/15/20.

Docket Numbers: RP20-943-000.

Applicants: Columbia Gas Transmission, LLC.

Description: § 4(d) Rate Filing: TCO WBX WGL Negotiated Rate Agreement Amendments to be effective 11/16/2018.

Filed Date: 6/3/20.

Accession Number: 20200603-5095.

Comments Due: 5 p.m. ET 6/15/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2020.
Nathaniel J. Davis, Sr.,
Deputy Secretary.

[FR Doc. 2020-12544 Filed 6-9-20; 8:45 am]

BILLING CODE 6717-01-P